DEPARTMENT OF TRANSPORTATION

Pipeline and Hazardous Materials Safety Administration

Pipeline Safety: Special Permit Renewal Requests

AGENCY: Pipeline and Hazardous Materials Safety Administration (PHMSA); DOT.

ACTION: This Notice pertains to the renewal requests for Special Permits with the following Docket Numbers:

PHMSA-2008-0257 Texas Eastern Transmission.

PHMSA-2010-0063 Anchor Point Energy

SUMMARY: Pursuant to the Federal pipeline safety laws, PHMSA is publishing this notice of special permit renewal requests that we have received from two natural gas transmission pipeline operators, seeking relief from compliance with certain requirements in the Federal pipeline safety regulations. This notice seeks public comments on these requests, including comments on any safety or environmental impacts the renewal of these special permits would have. For each listed Special Permit renewal request, an Environmental Assessment is available in the respective docket for review and comment. At the conclusion of the 30-day comment period, PHMSA will evaluate the comments received and the technical analysis of the renewal requests to determine whether to grant or deny the renewal requests.

DATES: Submit any comments regarding these special permit requests by July 16, 2015.

ADDRESSES: Comments should reference the specific docket number for which the comment applies. Comments may be submitted in the following ways:

• At the E-Gov Web site: http://www.Regulations.gov. This site allows the public to enter comments on any Federal Register notice issued by any agency.

• By Mail: Docket Management System: U.S. Department of Transportation, Docket Operations, M-30, West Building Ground Floor, Room W12-140, 1200 New Jersey Avenue SE., Washington, DC 20590.

• By Hand Delivery: DOT Docket Management System: U.S. Department of Transportation, Docket Operations, M-30, West Building Ground Floor, Room W12-140, 1200 New Jersey Avenue SE., Washington, DC 20590 between 9:00 a.m. and 5:00 p.m., Monday through Friday, except Federal holidays.

Instructions: At the beginning of your comments, please identify the docket number for the special permit renewal request you are commenting on. If you submit your comments by mail, please submit two copies. To receive confirmation that PHMSA has received your comments, please include a self-addressed stamped postcard. Internet users may submit comments at http://www.Regulations.gov.

Note: Please read the privacy statement published on http://www.Regulations.gov. Comments, including any personal information provided, are posted without changes or edits to http://www.Regulations.gov.

Contacts for general or technical information:

General: Kay McIver by telephone at (202) 366-0113; or by email at kay.mciver@dot.gov.

Technical: Steve Nanney by telephone at (713) 272-2855; or by email at steve.nanney@dot.gov.

SUPPLEMENTARY INFORMATION: PHMSA has received the following special permit renewal requests from two pipeline operators who seek relief from compliance with certain federal pipeline safety regulations. Each request includes a technical analysis provided by the respective operators, and filed under the original issued special permit number in the Federal Docket Management System (FDMS) at http://www.Regulations.gov. PHMSA invites interested persons to participate by reviewing these special permit renewal requests and submitting written comments, data or other views in the FDMS. Please include comments on any potential environmental impacts that may result if these special permit renewals are granted.

Details of Special Permit renewals received:

Docket Nos. | Requesters | Regulations | Nature of special permit
PHMSA-2008-0257 | Texas Eastern Transmission, LP (TETLP) | 49 CFR § 192.611 | To reauthorize an increase in the maximum allowable operating pressure (MAOP) on the TETLP pipeline operation as defined in the original Special Permit issued on October 28, 2010. This special permit renewal will allow TETLP to increase the MAOP of the special permit segments to the alternative MAOP design factors specified in 49 CFR § 192.620, of up to 80 percent of the specified minimum yield strength (SMYS) in Class 1, 67 percent of SMYS in Class 2 location, and 56 percent of SMYS in Class 3 location, provided that certain alternative measures are implemented and numerous conditions and safety requirements are met as described in the Special Permit renewal conditions. The renewal request seeks to waive compliance from §§ 192.112(a)(1); 192.112(c); 192.112(d)(2)(i); 192.112(f)(1), and 192.620(d)(5)(iii) of the Federal Pipeline Safety Regulations. The original special permit did not include a waiver from the requirements of § 192.620(d)(11)(ii)(A). Since the special permit included dent response and repair criteria that differ from the criteria in § 192.620(d)(11)(ii)(A), TETLP requests that this section be noted in the special permit renewal. The Special Permit renewal pertains to the 36-inch, approximately 268 miles of Lines 1 and 2 TETLP pipelines starting from the Bedford Compressor Station in Pennsylvania to the Chambersburg, Compressor Station in Pennsylvania. There are no class 4 locations in the system and the current segments operate at an MAOP of 1,112 psig. The pipeline segments are located in Fayette, Somerset, Bedford, Fulton, Franklin, Adams, York and Lancaster Counties in Pennsylvania.
PHMSA-2010-0063 | Cook Inlet Energy LLC (CIE) formerly issued to Anchor Point Energy | § 192.121 | To reauthorize the continued operation of 4.5-inch diameter, 8-mile reinforced thermoset plastic material FS LPJ (Fiberspar) pipeline built in the Kenai, Peninsula Borough near Anchor Point, Alaska. The renewal request seeks to waive compliance from § 192.121. The Anchor Point pipeline transports natural gas from the North Fork Unit and delivers it to a Sales Pipeline operated by Enstar Natural Gas Company. The MAOP of this pipeline is 1,328 psig. This special permit would only apply to Class 1 locations and areas outside of high consequence areas.

Before acting on the special permit renewal requests, PHMSA will evaluate all comments received on or before the comments closing date in its decision to grant or deny the renewal requests. Comments will be evaluated after this date only if it is possible to do so without incurring additional expense or delay.

Authority: 49 U.S.C. 60118 (c)(1) and 49 CFR 1.53.

Issued in Washington, DC, on June 10, 2015.
Alan K. Mayberry,
Deputy Associate Administrator for Policy and Programs.

[FR Doc. 2015-14720 Filed 6-15-15; 8:45 am]

BILLING CODE 4910-60-P